DEPARTMENT OF COMMERCE

International Trade Administration

[A-570-158, A-301-806, A-247-004, A-331-804, A-533-920, A-560-840, A-475-846, A-580-918, A-557-826, A-201-860, A-583-874, A-549-847, A-489-850, A-520-810, A-552-837]

Aluminum Extrusions From the People's Republic of China, Colombia, the Dominican Republic, Ecuador, India, Indonesia, Italy, the Republic of Korea, Malaysia, Mexico, Taiwan, Thailand, the Republic of Turkey, the United Arab Emirates, and the Socialist Republic of Vietnam: Initiation of Less-Than-Fair-Value Investigations

AGENCY: Enforcement and Compliance, International Trade Administration, Department of Commerce.

DATES: Applicable October 24, 2023.

FOR FURTHER INFORMATION CONTACT: Jonathan Hill (the People's Republic of China (China)) at (202) 482-3518; Jose Rivera (Colombia) at (202) 482-0842; Stefan Smith (the Dominican Republic) at (202) 482-4342; Reginald Anadio (Ecuador) at (202) 482-3166; Alex Cipolla (India) at (202) 482-4956; Jonathan Hall-Eastman (Indonesia) at (202) 482-1468; Christopher Maciuba (the Republic of Korea (Korea)) at (202) 482-0413; Eric Hawkins (Italy) at (202) 482-1988; Benjamin Blythe (Malaysia) at (202) 482-3457; Tyler Weinhold (Mexico) at (202) 482-1121; Hermes Pinilla (Taiwan) at (202) 482-3477; Jun Jack Zhao (Thailand) at (202) 482-1396; Sean Grossnickle (the Republic of Turkey (Turkey)) at (202) 482-3818; John K. Drury (the United Arab Emirates (UAE)) at (202) 482-0195; and Katherine Smith (the Socialist Republic of Vietnam (Vietnam)) at (202) 482-0557, AD/CVD Operations, Enforcement and Compliance, International Trade Administration, U.S. Department of Commerce, 1401 Constitution Avenue NW, Washington, DC 20230.

SUPPLEMENTARY INFORMATION:

The Petitions

On October 4, 2023, the U.S. Department of Commerce (Commerce) received antidumping duty (AD) petitions concerning imports of aluminum extrusions from China, Colombia, the Dominican Republic, Ecuador, India, Indonesia, Italy, Korea, Malaysia, Mexico, Taiwan, Thailand, Turkey, the UAE, and Vietnam filed in proper form on behalf of the U.S. Aluminum Extruders Coalition ¹ and the United Steel, Paper and Forestry, Rubber, Manufacturing, Energy, Allied Industrial and Service Workers International Union (USW), a coalition of domestic producers of aluminum extrusions and a certified union, which represents workers engaged in the production of aluminum extrusions in the United States (collectively, the petitioners).² These AD Petitions were accompanied by countervailing duty (CVD) petitions concerning imports of aluminum extrusions from China, India, Mexico, and Turkey.³

¹ The members of the U.S. Aluminum Extruders Coalition are Alexandria Extrusion Company; APEL Extrusions Inc.; Bonnell Aluminum; Brazeway; Custom Aluminum Products; Extrudex Aluminum; International Extrusions; Jordan Aluminum Company; M-D Building Products, Inc.; Merit Aluminum; MI Metals; Pennex Aluminum; Tower Extrusions; and Western Extrusions.

² See Petitioners' Letter, “Aluminum Extrusions from Colombia, the Dominican Republic, Ecuador, India, Indonesia, Italy, Malaysia, Mexico, the People's Republic of China, South Korea, Taiwan, Thailand, Turkey, the United Arab Emirates and Vietnam: Petitions for the Imposition of Antidumping and Countervailing Duties,” dated October 4, 2023 (the Petitions).

³ Id.

Between October 6 and 20, 2023, Commerce requested supplemental information pertaining to certain aspects of the Petitions in separate supplemental questionnaires.⁴ The petitioners filed responses to the supplemental questionnaires between October 12 and 23, 2023.⁵

⁴ See Commerce's Letters, “Petitions for the Imposition of Antidumping and Countervailing Duties on Imports of Aluminum Extrusions from the People's Republic of China, Colombia, Ecuador, the Dominican Republic, India, Indonesia, Italy, the Republic of Korea, Malaysia, Mexico, Taiwan, Thailand, the Republic of Turkey, the United Arab Emirates, and the Socialist Republic of Vietnam: Supplemental Questions,” dated October 6, 2023; “Petitions for the Imposition of Antidumping and Countervailing Duties on Imports of Aluminum Extrusions from the People's Republic of China, Colombia, Ecuador, the Dominican Republic, India, Indonesia, Italy, the Republic of Korea, Malaysia, Mexico, Taiwan, Thailand, the Republic of Turkey, the United Arab Emirates, and the Socialist Republic of Vietnam: Supplemental Questions,” dated October 10, 2023 (First Scope Questionnaire); Country-Specific Supplemental Questionnaires: China Supplemental, Colombia Supplemental, Dominican Republic Supplemental, Ecuador Supplemental; India Supplemental, Indonesia Supplemental, Italy Supplemental; Korea Supplemental; Malaysia Supplemental, Mexico Supplemental, Taiwan Supplemental, Thailand Supplemental, Turkey Supplemental, UAE Supplemental, and Vietnam Supplemental, dated October 10 and 11, 2023; Country-Specific Supplemental Questionnaires: Second Indonesia Supplemental and Second Vietnam Supplemental, dated October 12, 2023; and “Petitions for the Imposition of Antidumping and Countervailing Duties on Imports of Aluminum Extrusions from the People's Republic of China, Colombia, Ecuador, the Dominican Republic, India, Indonesia, Italy, the Republic of Korea, Malaysia, Mexico, Taiwan, Thailand, the Republic of Turkey, the United Arab Emirates, and the Socialist Republic of Vietnam: Second Scope Supplemental Questionnaire,” dated October 18, 2023 (Second Scope Questionnaire); Country-Specific Supplemental Questionnaire: Second Malaysia Supplemental, dated October 19, 2023; and Country-Specific Supplemental Questionnaire: Second Ecuador Supplemental, dated October 20, 2023; see also Memorandum, “Phone Call with Counsel to the Petitioners,” dated October 11, 2023 (October 11 Memorandum); and Memorandum, “Phone Call with Counsel to the Petitioners,” dated October 19, 2023 (October 19 Memorandum).

⁵ See Petitioner's Letters, “Aluminum Extrusions from the People's Republic of China, Colombia, the Dominican Republic, Ecuador, India, Indonesia, Italy, Malaysia, Mexico, the Republic of Korea, Taiwan, Thailand, the Republic of Turkey, the United Arab Emirates, and the Socialist Republic of Vietnam: Response to First Supplemental Questions Regarding Common Issues and Injury Petition Volume I of the Petition,” dated October 11, 2023 (General Issues Supplement); “Aluminum Extrusions from the People's Republic of China, Colombia, the Dominican Republic, Ecuador, India, Indonesia, Italy, Malaysia, Mexico, the Republic of Korea, Taiwan, Thailand, the Republic of Turkey, the United Arab Emirates, and the Socialist Republic of Vietnam: Response to First Supplemental Scope Questions Regarding Common Issues and Injury Petition Volume I of the Petition,” dated October 13, 2023 (First Scope Supplement); Country-Specific Supplemental Responses, dated October 12, 13, and 16, 2023; Second Mexico and Turkey Supplemental Responses, dated October 16, 2023; “Aluminum Extrusions from the People's Republic of China, Colombia, the Dominican Republic, Ecuador, India, Indonesia, Italy, Malaysia, Mexico, the Republic of Korea, Taiwan, Thailand, the Republic of Turkey, the United Arab Emirates, and the Socialist Republic of Vietnam: Response to Second Supplemental Scope Questions Regarding Common Issues and Injury Petition Volume I of the Petition, ” dated October 20, 2023 (Second Scope Supplement); “Aluminum Extrusions from Malaysia: Response to Second Supplemental Questions Regarding Malaysia Antidumping Duty Volume VII of the Petition,” dated October 20, 2023; and “Aluminum Extrusions from Ecuador: Response to Second Supplemental Questions Regarding Ecuador Antidumping Duty Volume IV of the Petition,” dated October 23, 2023.

In accordance with section 732(b) of the Tariff Act of 1930, as amended (the Act), the petitioners allege that imports of aluminum extrusions from China, Colombia, the Dominican Republic, Ecuador, India, Indonesia, Italy, Korea, Malaysia, Mexico, Taiwan, Thailand, Turkey, the UAE, and Vietnam are being, or are likely to be, sold in the United States at less than fair value (LTFV) within the meaning of section 731 of the Act, and that imports of such products are materially injuring, or threatening material injury to, the aluminum extrusions industry in the United States. Consistent with section 732(b)(1) of the Act, the Petitions are accompanied by information reasonably available to the petitioners supporting their allegations.

Commerce finds that the petitioners filed the Petitions on behalf of the domestic industry, because the petitioners are interested parties, as defined in sections 771(9)(D) and (E) of the Act.⁶ Commerce also finds that the petitioners demonstrated sufficient industry support for the initiation of the requested LTFV investigations.⁷

⁶ See Petitions at Volume I (page 2). The U.S. Aluminum Extruders Coalition is an interested party under section 771(9)(E) of the Act, while the USW is an interested party under section 771(9)(D) of the Act.

⁷ See, infra, section on “Determination of Industry Support for the Petitions.”

Periods of Investigation

Because the Petitions were filed on October 4, 2023, pursuant to 19 CFR 351.204(b)(1), the period of investigation (POI) for the Colombia, Dominican Republic, Ecuador, India, Indonesia, Italy, Korea, Malaysia, Mexico, Taiwan, Thailand, Turkey, and the UAE AD investigations is October 1, 2022, through September 30, 2023. Because China and Vietnam are non-market economy (NME) countries, pursuant to 19 CFR 351.204(b)(1), the POI for the China and Vietnam AD investigations is April 1, 2023, through September 30, 2023.

Scope of the Investigations

The products covered by these investigations are aluminum extrusions from China, Colombia, the Dominican Republic, Ecuador, India, Indonesia, Italy, Korea, Malaysia, Mexico, Taiwan, Thailand, Turkey, the UAE, and Vietnam. For a full description of the scope of these investigations, see the appendix to this notice.

Comments on the Scope of the Investigations

On October 10, 11, 18, and 19, 2023, Commerce requested information and clarification from the petitioners regarding the proposed scope to ensure that the scope language in the Petitions is an accurate reflection of the products for which the domestic industry is seeking relief.⁸ On October 13 and 20, 2023, the petitioners provided clarifications and revised the scope of these investigations.⁹ The description of merchandise covered by these investigations, as described in the appendix to this notice, reflects these clarifications.

⁸ See First Scope Questionnaire; see also October 11 Memorandum; Second Scope Questionnaire; and October 19 Memorandum.

⁹ See First Scope Supplement at 1-19 and Exhibit I-Scope Supp-1; see also Second Scope Supplement at 1-3 and Exhibits I-Second Scope Supp-1 and I-Second Scope Supp-2.

As discussed in the Preamble to Commerce's regulations, we are setting aside a period for parties to raise issues regarding product coverage (i.e., scope).¹⁰ We have some concerns related to the administrability of certain provisions in the proposed scope. For example, we find the definition of subassemblies (included) and imported merchandise that is not a part or subassembly of a larger product or system (excluded) remains an outstanding issue. Accordingly, Commerce intends to continue evaluating the scope of these investigations, with the possibility of making additional modifications to clarify further what products are covered and not covered by the scope of these investigations.

¹⁰ See Antidumping Duties; Countervailing Duties, Final Rule, 62 FR 27296, 27323 (May 19, 1997) (Preamble); see also 19 CFR 351.312.

Commerce will consider all scope comments received and, if necessary, will consult with interested parties prior to the issuance of the preliminary determinations. If scope comments include factual information,¹¹ all such factual information should be limited to public information. To facilitate preparation of its questionnaires, Commerce requests that scope comments be submitted by 5 p.m. Eastern Time (ET) on November 13, 2023, which is 20 calendar days from the signature date of this notice. Any rebuttal comments, which may include factual information, must be filed by 5 p.m. ET on November 24, 2023, which is the next business day after 10 calendar days from the initial comment deadline.¹²

¹¹ See 19 CFR 351.102(b)(21) (defining “factual information”).

¹² The deadline for rebuttal comments falls on November 23, 2023, which is a federal holiday. In accordance with 19 CFR 351.303(b)(1), Commerce will accept rebuttal comments filed by 5:00 p.m. ET on November 24, 2023. Id. (“For both electronically filed and manually filed documents, if the applicable due date falls on a non-business day, the Secretary will accept documents that are filed on the next business day.”).

Commerce requests that any factual information that parties consider relevant to the scope of these investigations be submitted during that period. However, if a party subsequently finds that additional factual information pertaining to the scope of the investigations may be relevant, the party must contact Commerce and request permission to submit the additional information. All such submissions must be filed on the records of each of the concurrent AD and CVD investigations.

Filing Requirements

All submissions to Commerce must be filed electronically using Enforcement and Compliance's Antidumping Duty and Countervailing Duty Centralized Electronic Service System (ACCESS), unless an exception applies.¹³ An electronically filed document must be received successfully in its entirety by the time and date it is due.

¹³ See Antidumping and Countervailing Duty Proceedings: Electronic Filing Procedures; Administrative Protective Order Procedures, 76 FR 39263 (July 6, 2011); see also Enforcement and Compliance: Change of Electronic Filing System Name, 79 FR 69046 (November 20, 2014) for details of Commerce's electronic filing requirements, effective August 5, 2011. Information on help using ACCESS can be found at https://access.trade.gov/help.aspx and a handbook can be found at https://access.trade.gov/help/Handbook_on_Electronic_Filing_Procedures.pdf.

Comments on Product Characteristics

Commerce is providing interested parties an opportunity to comment on the appropriate physical characteristics of aluminum extrusions to be reported in response to Commerce's AD questionnaires. This information will be used to identify the key physical characteristics of the subject merchandise in order to report the relevant factors of production (FOP) or costs of production (COP) accurately, as well as to develop appropriate product comparison criteria.

Interested parties may provide any information or comments that they feel are relevant to the development of an accurate list of physical characteristics. Specifically, they may provide comments as to which characteristics are appropriate to use as: (1) general product characteristics; and (2) product comparison criteria. We note that it is not always appropriate to use all product characteristics as product comparison criteria. We base product comparison criteria on meaningful commercial differences among products. In other words, although there may be some physical product characteristics utilized by manufacturers to describe aluminum extrusions, it may be that only a select few product characteristics take into account commercially meaningful physical characteristics. In addition, interested parties may comment on the order in which the physical characteristics should be used in matching products. Generally, Commerce attempts to list the most important physical characteristics first and the least important characteristics last.

In order to consider the suggestions of interested parties in developing and issuing the AD questionnaires, all product characteristics comments must be filed by 5 p.m. ET on November 13, 2023, which is 20 calendar days from the signature date of this notice.¹⁴ Any rebuttal comments must be filed by 5:00 p.m. ET on November 24, 2023, which is the next business day after 10 calendar days from the initial comment deadline.¹⁵ All comments and submissions to Commerce must be filed electronically using ACCESS, as explained above, on the record of each of the AD investigations.

¹⁴ See 19 CFR 351.303(b)(1).

¹⁵ The deadline for rebuttal comments falls on November 23, 2023, which is a Federal holiday. In accordance with 19 CFR 351.303(b)(1), Commerce will accept rebuttal comments filed by 5 p.m. ET on November 24, 2023. Id. (“For both electronically filed and manually filed documents, if the applicable due date falls on a non-business day, the Secretary will accept documents that are filed on the next business day.”).

Determination of Industry Support for the Petitions

Section 732(b)(1) of the Act requires that a petition be filed on behalf of the domestic industry. Section 732(c)(4)(A) of the Act provides that a petition meets this requirement if the domestic producers or workers who support the petition account for: (i) at least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, Commerce shall: (i) poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The U.S. International Trade Commission (ITC), which is responsible for determining whether “the domestic industry” has been injured, must also determine what constitutes a domestic like product in order to define the industry. While both Commerce and the ITC must apply the same statutory definition regarding the domestic like product,¹⁶ they do so for different purposes and pursuant to a separate and distinct authority. In addition, Commerce's determination is subject to limitations of time and information. Although this may result in different definitions of the like product, such differences do not render the decision of either agency contrary to law.¹⁷

¹⁶ See section 771(10) of the Act.

¹⁷ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioners do not offer a definition of the domestic like product distinct from the scope of the investigations.¹⁸ Based on our analysis of the information submitted on the record, we have determined that aluminum extrusions, as defined in the scope, constitute a single domestic like product, and we have analyzed industry support in terms of that domestic like product.¹⁹

¹⁸ See Petitions at Volume I (pages 23-28); see also General Issues Supplement at 1 and Exhibit I-Supp-1.

¹⁹ For a discussion of the domestic like product analysis as applied to these cases and information regarding industry support, see Antidumping Duty Investigation Initiation Checklists: Aluminum Extrusions from the People's Republic of China, Colombia, the Dominican Republic, Ecuador, India, Indonesia, Italy, the Republic of Korea, Mexico, Malaysia, Taiwan, Thailand, the Republic of Turkey, the United Arab Emirates, and the Socialist Republic of Vietnam, dated concurrently with this notice (Country-Specific AD Initiation Checklists) at Attachment II, Analysis of Industry Support for the Antidumping and Countervailing Duty Petitions Covering Aluminum Extrusions from the People's Republic of China, Colombia, the Dominican Republic, Ecuador, India, Indonesia, Italy, the Republic of Korea, Mexico, Malaysia, Taiwan, Thailand, the Republic of Turkey, the United Arab Emirates, and the Socialist Republic of Vietnam (Attachment II). These Initiation Checklists are on file electronically via ACCESS.

In determining whether the petitioners have standing under section 732(c)(4)(A) of the Act, we considered the industry support data contained in the Petitions with reference to the domestic like product as defined in the “Scope of the Investigations,” in the appendix to this notice. To establish industry support, the petitioners provided the total 2022 shipments of the domestic like product for the U.S. producers that support the Petitions, as well as the estimated 2022 production of the domestic like product for the plants represented by the USW, and compared this to the estimated total 2022 shipments of the domestic like product for the entire domestic industry.²⁰ The petitioners estimated the total 2022 shipments of the domestic like product for the entire U.S. industry based on information derived from the Aluminum Association.²¹ Because total industry production data for the domestic like product for 2022 are not reasonably available to the petitioners, and the petitioners have established that shipments are a reasonable proxy for production data,²² we have relied on the data provided by the petitioners for purposes of measuring industry support.²³

²⁰ See Petitions at Volume I (pages 2-6 and Exhibits I-3, I-4, I-23, and I-58); see also General Issues Supplement at 3-7 and Exhibits I-Supp-8 through I-Supp-10.

²¹ See Petitions at Volume I (pages 3-6 and Exhibits I-4 and I-58); see also General Issues Supplement at 3-7 and Exhibit I-Supp-8.

²² See Petitions at Volume I (pages 3-5 and Exhibit I-4); see also General Issues Supplement at 4-5.

²³ See Petitions at Volume I (pages 2-6 and Exhibits I-1 through I-4, I-23, and I-58); see also General Issues Supplement at 2-7 and Exhibits I-Supp-4 through I-Supp-10. For further discussion, see Attachment II of the Country-Specific AD Initiation Checklists.

On October 17, 2023, we received timely filed comments on industry support from Hydro Precision Tubing USA, LLC (Hydro Precision), a U.S. producer of aluminum extrusions.²⁴ On October 17, 2023, we also received timely filed comments on industry support from Ashley Furniture Industries, LLC and Kimball International Inc. (collectively, Ashley/Kimball), domestic producers of furniture.²⁵ On October 19, 2023, the petitioners responded to the comments from Hydro Precision and Ashley/Kimball in a timely filed rebuttal submission.²⁶

²⁴ See Hydro Precision's Letter, “Aluminum Extrusions from the People's Republic of China, Colombia, the Dominican Republic, Ecuador, India, Indonesia, Malaysia, Mexico, the Republic of Korea, Taiwan, Thailand, the Republic of Turkey, the United Arab Emirates, and the Socialist Republic of Vietnam: Hydro Precision Tubing USA, LLC's Comments on the Lack of Standing of the Petitioner and Request for Polling of the Domestic Industry,” dated October 17, 2023.

²⁵ See Ashley/Kimball's Letter, “Aluminum Extrusions from the People's Republic of China, Colombia, the Dominican Republic, Ecuador, India, Indonesia, Italy, the Republic of Korea, Malaysia, Mexico, Taiwan, Thailand, the Republic of Turkey, the United Arab Emirates, and the Socialist Republic of Vietnam: Comments on Industry Support,” dated October 17, 2023.

²⁶ See Petitioners' Letter, “Aluminum Extrusions from the People's Republic of China, Colombia, the Dominican Republic, Ecuador, India, Indonesia, Italy, Malaysia, Mexico, the Republic of Korea, Taiwan, Thailand, the Republic of Turkey, the United Arab Emirates, and the Socialist Republic of Vietnam: Response to Comments on Industry Support,” dated October 19, 2023 (Petitioners' Standing Response).

Our review of the data provided in the Petitions, the General Issues Supplement, the Petitioners' Standing Response, and other information readily available to Commerce indicates that the petitioners have established industry support for the Petitions.²⁷ First, the Petitions established support from domestic producers (or workers) accounting for more than 50 percent of the total production of the domestic like product and, as such, Commerce is not required to take further action in order to evaluate industry support (e.g., polling).²⁸ Second, the domestic producers (or workers) have met the statutory criteria for industry support under section 732(c)(4)(A)(i) of the Act because the domestic producers (or workers) who support the Petitions account for at least 25 percent of the total production of the domestic like product.²⁹ Finally, the domestic producers (or workers) have met the statutory criteria for industry support under section 732(c)(4)(A)(ii) of the Act because the domestic producers (or workers) who support the Petitions account for more than 50 percent of the production of the domestic like product produced by that portion of the industry expressing support for, or opposition to, the Petitions.³⁰ Accordingly, Commerce determines that the Petitions were filed on behalf of the domestic industry within the meaning of section 732(b)(1) of the Act.³¹

²⁷ See Petitions at Volume I (pages 2-6 and Exhibits I-1 through I-4, I-23, and I-58); see also General Issues Supplement at 2-7 and Exhibits I-Supp-4 through I-Supp-10; and Petitioners' Standing Response at 1-23 and Exhibits 1-16. For further discussion, see Attachment II of the Country-Specific AD Initiation Checklists.

²⁸ See Attachment II of the Country-Specific AD Initiation Checklists; see also section 732(c)(4)(D) of the Act.

²⁹ See Attachment II of the Country-Specific AD Initiation Checklists.

³⁰ Id.

³¹ Id.

Allegations and Evidence of Material Injury and Causation

The petitioners allege that the U.S. industry producing the domestic like product is being materially injured, or is threatened with material injury, by reason of the imports of the subject merchandise sold at LTFV. In addition, with regard to China, Colombia, the Dominican Republic, Indonesia, Mexico, Turkey, and Vietnam, the petitioners allege that subject imports exceed the negligibility threshold provided for under section 771(24)(A) of the Act.³² With regard to Ecuador, India, Korea, Malysia, Taiwan, Thailand, Italy, and the UAE, while the allegedly dumped imports from each of these countries do not individually exceed the statutory requirements for negligibility, the petitioners provided data demonstrating that the aggregate import share from these five countries is 13.65 percent, which exceeds the seven percent threshold established by the exception in section 771(24)(A)(ii) of the Act.³³

³² See Petitions at Volume I (pages 37-38 and Exhibit I-16); see also General Issues Supplement at 9 and Exhibit I-Supp-11.

³³ See General Issues Supplement at 9 and Exhibit I-Supp-11.

The petitioners contend that the industry's injured condition is illustrated by a significant volume of subject imports; reduced market share; underselling and price depression and/or suppression; lost sales and revenues; decline in the domestic industry's production, capacity utilization, and U.S. shipments; declining employment variables; adverse impact on the domestic industry's profitability and financial performance; and the magnitude of the alleged dumping margins.³⁴ We assessed the allegations and supporting evidence regarding material injury, threat of material injury, causation, as well as negligibility, and we have determined that these allegations are properly supported by adequate evidence, and meet the statutory requirements for initiation.³⁵

³⁴ See Petitions at Volume I (pages 22, 30-60 and Exhibits I-9 through I-56); see also General Issues Supplement at 7-9 and Exhibit I-Supp-11.

³⁵ See Country-Specific AD Initiation Checklists at Attachment III, Analysis of Allegations and Evidence of Material Injury and Causation for the Antidumping and Countervailing Duty Petitions Covering Aluminum Extrusions from the People's Republic of China, Colombia, the Dominican Republic, Ecuador, India, Indonesia, Italy, the Republic of Korea, Mexico, Malaysia, Taiwan, Thailand, the Republic of Turkey, the United Arab Emirates, and the Socialist Republic of Vietnam.

Allegations of Sales at LTFV

The following is a description of the allegations of sales at LTFV upon which Commerce based its decision to initiate AD investigations of imports of aluminum extrusions from China, Colombia, the Dominican Republic, Ecuador, India, Indonesia, Italy, Korea, Malaysia, Mexico, Taiwan, Thailand, Turkey, the UAE, and Vietnam. The sources of data for the deductions and adjustments relating to U.S. price and normal value (NV) are discussed in greater detail in the Country-Specific AD Initiation Checklists.

U.S. Price

For China, Colombia, the Dominican Republic, Ecuador, India, Indonesia, Korea, Mexico, Taiwan, Thailand, Turkey, and Vietnam, the petitioners based export price (EP) on pricing information for sales of, or offers for sale of, aluminum extrusions produced in and exported from each country.³⁶ For Italy, Malaysia, and the UAE, the petitioners based EP on transaction-specific average unit values (AUVs) (i.e., a month- and port-specific AUV) derived from official import statistics and tied to ship manifest data. For each country, the petitioners made certain adjustments to U.S. price to calculate a net ex-factory U.S. price, where applicable.³⁷

³⁶ See Country-Specific AD Initiation Checklists.

³⁷ Id.

Normal Value ³⁸

³⁸ In accordance with section 773(b)(2) of the Act, for the Colombia, Dominican Republic, Ecuador, India, Indonesia, Italy, Korea, Malaysia, Mexico, Taiwan, Thailand, Turkey, and UAE investigations, Commerce will request information necessary to calculate the constructed value (CV) and COP to determine whether there are reasonable grounds to believe or suspect that sales of the foreign like product have been made at prices that represent less than the COP of the product.

For the Dominican Republic, Italy, and the UAE, the petitioners based NV on home market prices they obtained for aluminum extrusions produced in and sold, or offered for sale, in each country during the applicable time period.³⁹ The petitioners made certain adjustments to home market price to calculate a net ex-factory home market price, where appropriate.⁴⁰

³⁹ See Country-Specific AD Initiation Checklists.

⁴⁰ Id.

For Colombia, Ecuador, India, Indonesia, Korea, Malaysia, Mexico, Taiwan, Thailand, and Turkey, the petitioners stated that they were unable to obtain home market or third country pricing information for aluminum extrusions to use as a basis for NV.⁴¹ Therefore, for Colombia, Ecuador, India, Indonesia, Korea, Malaysia, Mexico, Taiwan, Thailand, and Turkey, the petitioners calculated NV based on constructed value (CV).⁴² For further discussion of CV, see the section “Normal Value Based on Constructed Value,” below.

⁴¹ Id.

⁴² Id.

Commerce considers China and Vietnam to be NME countries.⁴³ In accordance with section 771(18)(C)(i) of the Act, any determination that a foreign country is an NME country shall remain in effect until revoked by Commerce. Therefore, we continue to treat China and Vietnam as NME countries for purposes of the initiation of these investigations. Accordingly, we base NV on factors of production (FOPs) valued in a surrogate market economy country in accordance with section 773(c) of the Act.

⁴³ See, e.g., Certain Freight Rail Couplers and Parts Thereof from the People's Republic of China: Preliminary Affirmative Determination of Sales at Less Than Fair Value and Preliminary Affirmative Determination of Critical Circumstances, 88 FR 15372 (March 13, 2023), and accompanying Preliminary Decision Memorandum at 5, unchanged in Certain Freight Rail Couplers and Parts Thereof from the People's Republic of China: Final Affirmative Determination of Sales at Less-Than-Fair Value and Final Affirmative Determination of Critical Circumstances, 88 FR 34485 (May 30, 2023); see also Certain Frozen Fish Fillets from the Socialist Republic of Vietnam: Final Results, and Final Results of No Shipments of the Antidumping Duty Administrative Review; 2016-2017, 84 FR 18007 (April 29, 2019).

The petitioners claims that Turkey is an appropriate surrogate country for China because it is a market economy that is at a level of economic development comparable to that of China and is a significant producer of comparable merchandise.⁴⁴ The petitioners provided publicly available information from Turkey to value all FOPs.⁴⁵ Based on the information provided by the petitioners, we believe it is appropriate to use Turkey as a surrogate country to value all FOPs for initiation purposes.

⁴⁴ See China AD Initiation Checklist.

⁴⁵ Id.

The petitioner claims that Indonesia is an appropriate surrogate country for Vietnam because it is a market economy that is at a level of economic development comparable to that of Vietnam and is a significant producer of comparable merchandise.⁴⁶ The petitioners provided publicly available information from Indonesia to value all FOPs (except selling, general, and administrative expenses (SG&A), overhead, financial expenses, and profit).⁴⁷ To value SG&A, overhead, financial expenses, and profit, the petitioners provided financial statements from a producer of identical merchandise domiciled in another surrogate country, Egypt.⁴⁸ Based on the information provided by the petitioners, we believe it is appropriate to use Indonesia as a surrogate country to value all FOPs (except SG&A, overhead, financial expenses, and profit) and Egypt to value SG&A, overhead, financial expenses, and profit for initiation purposes.

⁴⁶ See Vietnam AD Initiation Checklist.

⁴⁷ Id.

⁴⁸ Id.

Interested parties will have the opportunity to submit comments regarding surrogate country selection and, pursuant to 19 CFR 351.301(c)(3)(i), will be provided an opportunity to submit publicly available information to value FOPs within 30 days before the scheduled date of the preliminary determinations.

Factors of Production

Because information regarding the volume of inputs consumed by Chinese and Vietnamese producers/exporters was not reasonably available, the petitioners used product-specific consumption rates from a U.S. producer of aluminum extrusions as a surrogate to value Chinese and Vietnamese manufacturers' FOPs.⁴⁹ Additionally, as noted above, the petitioners calculated factory overhead, SG&A, and profit based on the experience of a Turkish and Egyptian producer of identical merchandise for China and Vietnam, respectively.⁵⁰

⁴⁹ See China AD Initiation Checklist and Vietnam AD Initiation Checklist.

⁵⁰ Id. As noted above, the petitioners calculated SG&A, overhead, and profit using information specific to Egypt. See Vietnam AD Initiation Checklist.

Normal Value Based on Constructed Value

As noted above for Colombia, Ecuador, India, Indonesia, Korea, Malaysia, Mexico, Taiwan, Thailand, and Turkey, the petitioners stated that they were unable to obtain home market or third-country prices for aluminum extrusions to use as a basis for NV. Therefore, for these countries, the petitioners calculated NV based on CV.⁵¹

⁵¹ See Country-Specific AD Initiation Checklists.

Pursuant to section 773(e) of the Act, the petitioners calculated CV as the sum of the cost of manufacturing, SG&A, financial expenses, and profit.⁵² For each of these countries, in calculating the cost of manufacturing, the petitioners relied on the production experience and input consumption rates of a U.S. producer of aluminum extrusions, valued using publicly available information applicable to the respective countries.⁵³ In calculating SG&A, financial expenses, and profit ratios (where applicable), the petitioners relied on the calendar year 2022 financial statements of a producer of identical or comparable merchandise domiciled in each respective subject country or a third country, where appropriate.⁵⁴

⁵² Id.

⁵³ Id.

⁵⁴ Id.

Fair Value Comparisons

Based on the data provided by the petitioners, there is reason to believe that imports of aluminum extrusions from China, Colombia, the Dominican Republic, Ecuador, India, Indonesia, Italy, Korea, Malaysia, Mexico, Taiwan, Thailand, Turkey, the UAE, and Vietnam are being, or are likely to be, sold in the United States at LTFV. Based on comparisons of EP to NV in accordance with sections 772 and 773 of the Act, the estimated dumping margins for aluminum extrusions for each of the countries covered by this initiation are as follows: (1) China—376.85 percent; (2) Colombia—165.25 percent; (3) Dominican Republic—28.29 percent; (4) Ecuador—42.79 to 63.21 percent; (5) India—39.05 percent; (6) Indonesia—88.53 percent; (7) Italy—41.67 percent; (8) Korea—43.56 percent; (9) Malaysia—25.89 to 27.51 percent; (10) Mexico—76.68 to 82.03 percent; (11) Taiwan—60.25 to 67.86 percent; (12) Thailand—76.73 percent; (13) Turkey—48.43 percent; (14) UAE—42.29 percent; and (15) Vietnam—41.84 percent.⁵⁵

⁵⁵ Id.

Initiation of LTFV Investigations

Based upon the examination of the Petitions and supplemental responses, we find that they meet the requirements of section 732 of the Act. Therefore, we are initiating LTFV investigations to determine whether imports of aluminum extrusions from China, Colombia, the Dominican Republic, Ecuador, India, Indonesia, Italy, Korea, Malaysia, Mexico, Taiwan, Thailand, Turkey, the UAE, and Vietnam are being, or are likely to be, sold in the United States at LTFV. In accordance with section 733(b)(1)(A) of the Act and 19 CFR 351.205(b)(1), unless postponed, we will make our preliminary determinations no later than 140 days after the date of these initiations.

Respondent Selection

Colombia, Dominican Republic, Ecuador, India, Indonesia, Italy, Korea, Malaysia, Mexico, Taiwan, Thailand, Turkey, and the UAE

In the Petitions, the petitioners identified one company in Colombia, two companies in the Dominican Republic, three companies in Ecuador, 13 companies in India, 18 companies in Indonesia, 22 companies in Italy, 13 companies in Korea, nine companies in Malaysia, 14 companies in Mexico, 21 companies in Taiwan, eight companies in Thailand, 39 companies in Turkey, and 13 companies in the UAE as producers/exporters of aluminum extrusions.⁵⁶ For Ecuador, India, Indonesia, Italy, Korea, Malaysia, Mexico, Taiwan, Thailand, Turkey, and the UAE, in the event Commerce determines that the number of companies is large, and it cannot individually examine each company based upon Commerce's resources, where appropriate, Commerce intends to select mandatory respondents based on quantity and value (Q&V) questionnaires issued to potential respondents. Following standard practice in AD investigations involving market economy countries, Commerce would normally select respondents based on U.S. Customs and Border Protection (CBP) entry data for imports under the appropriate Harmonized Tariff Schedule of the United States (HTSUS) subheadings listed in the scope of the investigations. However, for these investigations, due to the wide variety of individual types of aluminum extrusions products covered by the scope, we cannot rely on CBP data in selecting respondents. Notwithstanding the decision to rely on Q&V questionnaires for respondent selection, due to the number of producers and/or exporters identified in the Petitions, Commerce has determined to limit the number of Q&V questionnaires that it will issue to producers and/or exporters based on CBP data for aluminum extrusions from Indonesia, Italy, Taiwan, and Turkey during the POI under the appropriate HTSUS subheadings listed in the “Scope of the Investigations,” in the appendix. Accordingly, for Indonesia, Italy, Taiwan, and Turkey, Commerce will send Q&V questionnaires to the largest producers and/or exporters that are identified in the CBP entry data for which there is complete address information on the record. For Ecuador, India, Korea, Malaysia, Mexico, Thailand, and the UAE, we intend to issue Q&V questionnaires to each potential respondent for which the petitioners have provided a complete address. For Colombia and the Dominican Republic, the petitioners identified one company as a producer or exporter of aluminum extrusions (Colombia) and two companies as producers and/or exporters of aluminum extrusions (Dominican Republic). Therefore, unless we receive voluntary responses to the Q&V questionnaire from companies not identified, as described below, we intend to examine the one producer/exporter of aluminum extrusions from Colombia and the two producers/exporters of aluminum extrusions from the Dominican Republic.

⁵⁶ See Petitions at Volume I (page 18 and Exhibit I-8); see also General Issues Supplement at 1-2 and Exhibit I-Supp-3.

Commerce will post the Q&V questionnaires along with filing instructions on Commerce's website at https://www.trade.gov/ec-adcvd-case-announcements. Exporters/producers of aluminum extrusions from Colombia, the Dominican Republic, Ecuador, India, Indonesia, Italy, Korea, Malaysia, Mexico, Taiwan, Thailand, Turkey, and the UAE that do not receive Q&V questionnaires by mail may still submit a response to the Q&V questionnaire and can obtain a copy of the Q&V questionnaire from Enforcement and Compliance's website. Responses to the Q&V questionnaire must be submitted by the relevant producers/exporters no later than 5 p.m. ET on November 7, 2023, which is two weeks from the signature date of this notice. All Q&V responses must be filed electronically via ACCESS. An electronically filed document must be received successfully, in its entirety, by ACCESS no later than 5:00 p.m. ET on the deadline noted above.

Interested parties must submit applications for disclosure under administrative protective order (APO) in accordance with 19 CFR 351.305(b). Instructions for filing such applications may be found on Commerce's website at https://www.trade.gov/administrative-protective-orders. Commerce intends to make its decisions regarding respondent selection for Colombia, the Dominican Republic, Ecuador, India, Indonesia, Italy, Korea, Malaysia, Mexico, Taiwan, Thailand, Turkey, and the UAE within 20 days of publication of this notice.

China and Vietnam

In the Petitions, the petitioners named over 100 companies in China and 13 companies in Vietnam as producers and/or exporters of aluminum extrusions.⁵⁷ Our standard practice for respondent selection in AD investigations involving NME countries is to select respondents based on Q&V questionnaires in cases where it has determined that the number of companies is large and it cannot individually examine each company based upon its resources. Therefore, considering the number of producers and/or exporters identified in the Petitions, Commerce will solicit Q&V information that can serve as a basis for selecting exporters for individual examination in the event that Commerce determines that the number is large and decides to limit the number of respondents individually examined pursuant to section 777A(c)(2) of the Act. For China, because there are nearly 300 Chinese producers and/or exporters identified in the Petitions, Commerce has determined that it will issue Q&V questionnaires to the largest producers and/or exporters that are identified in the CBP data for which there is complete address information on the record. For Vietnam, Commerce has determined that it will issue Q&V questionnaires to each potential respondent for which the petitioners have provided a complete address.

⁵⁷ See Petitions at Volume I (page 18 and Exhibit I-8); see also General Issues Supplement at 1-2 and Exhibit I-Supp-3.

Commerce will post the Q&V questionnaires along with filing instructions on Commerce's website at https://www.trade.gov/ec-adcvd-case-announcements. Producers/exporters of aluminum extrusions from China and Vietnam that do not receive Q&V questionnaires may still submit a response to the Q&V questionnaire and can obtain a copy of the Q&V questionnaire from Commerce's website. Responses to the Q&V questionnaire must be submitted by the relevant Chinese and Vietnamese producers/exporters no later than 5:00 p.m. ET on November 7, 2023, which is two weeks from the signature date of this notice. All Q&V questionnaire responses must be filed electronically via ACCESS. An electronically filed document must be received successfully, in its entirety, by ACCESS no later than 5:00 p.m. ET on the deadline noted above.

Interested parties must submit applications for disclosure under APO in accordance with 19 CFR 351.305(b). As stated above, instructions for filing such applications may be found on Commerce's website at https://www.trade.gov/administrative-protective-orders. Commerce intends to make its decisions regarding respondent selection for China and Vietnam within 20 days of publication of this notice.

Separate Rates

In order to obtain separate rate status in an NME investigation, exporters and producers must submit a separate rate application. The specific requirements for submitting a separate rate application in an NME investigation are outlined in detail in the application itself, which is available on Commerce's website at https://access.trade.gov/Resources/nme/nme-sep-rate.html. The separate rate application will be due 30 days after publication of this initiation notice. Exporters and producers must file a timely separate rate application if they want to be considered for individual examination. Exporters and producers who submit a separate rate application and have been selected as mandatory respondents will be eligible for consideration for separate rate status only if they respond to all parts of Commerce's AD questionnaire as mandatory respondents. Commerce requires that companies from China and Vietnam submit a response both to the Q&V questionnaire and to the separate rate application by the respective deadlines in order to receive consideration for separate rate status. Companies not filing a timely Q&V questionnaire response will not receive separate rate consideration.

Use of Combination Rates

Commerce will calculate combination rates for certain respondents that are eligible for a separate rate in an NME investigation. The Separate Rates and Combination Rates Bulletin states:

{w}hile continuing the practice of assigning separate rates only to exporters, all separate rates that {Commerce} will now assign in its NME Investigation will be specific to those producers that supplied the exporter during the period of investigation. Note, however, that one rate is calculated for the exporter and all of the producers which supplied subject merchandise to it during the period of investigation. This practice applies both to mandatory respondents receiving an individually calculated separate rate as well as the pool of non-investigated firms receiving the {weighted average} of the individually calculated rates. This practice is referred to as the application of “combination rates” because such rates apply to specific combinations of exporters and one or more producers. The cash-deposit rate assigned to an exporter will apply only to merchandise both exported by the firm in question and produced by a firm that supplied the exporter during the period of investigation.⁵⁸

⁵⁸ See Enforcement and Compliance's Policy Bulletin 05.1, regarding, “Separate-Rates Practice and Application of Combination Rates in Antidumping Investigation involving NME Countries,” (April 5, 2005) at 6 (emphasis added), available on Commerce's website at https://access.trade.gov/Resources/policy/bull05-1.pdf.

Distribution of Copies of the AD Petitions

In accordance with section 732(b)(3)(A) of the Act and 19 CFR 351.202(f), copies of the public version of the AD Petitions have been provided to the governments of China, Colombia, the Dominican Republic, Ecuador, India, Indonesia, Italy, Korea, Malaysia, Mexico, Taiwan, Thailand, Turkey, the UAE, and Vietnam via ACCESS. To the extent practicable, we will attempt to provide a copy of the public version of the AD Petitions to each exporter named in the AD Petitions, as provided under 19 CFR 351.203(c)(2).

ITC Notification

Commerce will notify the ITC of our initiation, as required by section 732(d) of the Act.

Preliminary Determinations by the ITC

The ITC will preliminarily determine, within 45 days after the date on which the AD Petitions were filed, whether there is a reasonable indication that imports of aluminum extrusions from China, Colombia, the Dominican Republic, Ecuador, India, Indonesia, Italy, Korea, Malaysia, Mexico, Taiwan, Thailand, Turkey, the UAE, and/or Vietnam are materially injuring, or threatening material injury to, a U.S. industry.⁵⁹ A negative ITC determination for any country will result in the investigation being terminated with respect to that country.⁶⁰ Otherwise, these LTFV investigations will proceed according to statutory and regulatory time limits.

⁵⁹ See section 733(a) of the Act.

⁶⁰ Id.

Submission of Factual Information

Factual information is defined in 19 CFR 351.102(b)(21) as: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ⁶¹ and, if the information is submitted to rebut, clarify, or correct factual information already on the record, to provide an explanation identifying the information already on the record that the factual information seeks to rebut, clarify, or correct.⁶² Time limits for the submission of factual information are addressed in 19 CFR 351.301, which provides specific time limits based on the type of factual information being submitted. Interested parties should review the regulations prior to submitting factual information in these investigations.

⁶¹ See 19 CFR 351.301(b).

⁶² See 19 CFR 351.301(b)(2).

Particular Market Situation Allegation

Section 773(e) of the Act addresses the concept of particular market situation (PMS) for purposes of CV, stating that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

Neither section 773(e) of the Act, nor 19 CFR 351.301(c)(2)(v), set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of a respondent's initial section D questionnaire response.

Extensions of Time Limits

Parties may request an extension of time limits before the expiration of a time limit established under 19 CFR 351.301, or as otherwise specified by Commerce. In general, an extension request will be considered untimely if it is filed after the expiration of the time limit established under 19 CFR 351.301.⁶³ For submissions that are due from multiple parties simultaneously, an extension request will be considered untimely if it is filed after 10 a.m. ET on the due date. Under certain circumstances, we may elect to specify a different time limit by which extension requests will be considered untimely for submissions which are due from multiple parties simultaneously. In such a case, we will inform parties in a letter or memorandum of the deadline (including a specified time) by which extension requests must be filed to be considered timely. An extension request must be made in a separate, stand-alone submission; under limited circumstances we will grant untimely filed requests for the extension of time limits, where we determine, based on 19 CFR 351.302, that extraordinary circumstances exist. Parties should review Commerce's regulations concerning the extension of time limits and the Time Limits Final Rule prior to submitting factual information in these investigations.⁶⁴

⁶³ See 19 CFR 351.301; see also Extension of Time Limits; Final Rule, 78 FR 57790 (September 20, 2013) (Time Limits Final Rule), available at https://www.gpo.gov/fdsys/pkg/FR-2013-09-20/html/2013-22853.htm.

⁶⁴ See 19 CFR 351.302; see also, e.g., Time Limits Final Rule.

Certification Requirements

Any party submitting factual information in an AD or CVD proceeding must certify to the accuracy and completeness of that information.⁶⁵ Parties must use the certification formats provided in 19 CFR 351.303(g).⁶⁶ Commerce intends to reject factual submissions if the submitting party does not comply with the applicable certification requirements.

⁶⁵ See section 782(b) of the Act.

⁶⁶ See Certification of Factual Information to Import Administration During Antidumping and Countervailing Duty Proceedings, 78 FR 42678 (July 17, 2013) (Final Rule). Additional information regarding the Final Rule is available at https://access.trade.gov/Resources/filing/index.html.

Notification to Interested Parties

Interested parties must submit applications for disclosure under APO in accordance with 19 CFR 351.305. Parties wishing to participate in these investigations should ensure that they meet the requirements of 19 CFR 351.103(d) (e.g., by filing the required letter of appearance). Note that Commerce has temporarily modified certain of its requirements for serving documents containing business proprietary information, until further notice.⁶⁷

⁶⁷ See Temporary Rule Modifying AD/CVD Service Requirements Due to COVID-19; Extension of Effective Period, 85 FR 41363 (July 10, 2020). Additionally, note that Commerce has modified its regulations to make permanent certain changes to its service procedures that were adopted on a temporary basis due to COVID-19, as well as additional clarifications and corrections to its AD/CVD regulations. Effective October 30, 2023, these changes will apply to all AD/CVD proceedings that are ongoing on the effective date and all AD/CVD proceedings initiated on or after the effective date. See Administrative Protective Order, Service, and Other Procedures in Antidumping and Countervailing Duty Proceedings, 88 FR 67069 (September 29, 2023).

This notice is issued and published pursuant to sections 732(c)(2) and 777(i) of the Act, and 19 CFR 351.203(c).

Dated: October 24, 2023.
Lisa W. Wang,
Assistant Secretary for Enforcement and Compliance.

Appendix—Scope of the Investigations

The merchandise subject to these investigations are aluminum extrusions, regardless of form, finishing, or fabrication, whether assembled with other parts or unassembled, whether coated, painted, anodized, or thermally improved. Aluminum extrusions are shapes and forms, produced by an extrusion process, made from aluminum alloys having metallic elements corresponding to the alloy series designations published by the Aluminum Association commencing with the numbers 1, 3, and 6 (or proprietary equivalents or other certifying body equivalents). Specifically, subject aluminum extrusions made from an aluminum alloy with an Aluminum Association series designation commencing with the number 1 contain not less than 99 percent aluminum by weight. Subject aluminum extrusions made from an aluminum alloy with an Aluminum Association series designation commencing with the number 3 contain manganese as the major alloying element, with manganese accounting for not more than 3.0 percent of total materials by weight. Subject aluminum extrusions made from an aluminum alloy with an Aluminum Association series designation commencing with the number 6 contain magnesium and silicon as the major alloying elements, with magnesium accounting for at least 0.1 percent but not more than 2.0 percent of total materials by weight, and silicon accounting for at least 0.1 percent but not more than 3.0 percent of total materials by weight. The scope also includes merchandise made from an aluminum alloy with an Aluminum Association series designation commencing with the number 5 (or proprietary equivalents or other certifying body equivalents) that have a magnesium content accounting for up to but not more than 2.0 percent of total materials by weight.

The country of origin of the aluminum extrusion is determined by where the metal is extruded (i.e., pressed through a die).

Aluminum extrusions are produced and imported in a wide variety of shapes and forms, including, but not limited to, hollow profiles, other solid profiles, pipes, tubes, bars, and rods. Aluminum extrusions that are drawn subsequent to extrusion (drawn aluminum) are also included in the scope.

Subject aluminum extrusions are produced and imported with a variety of coatings and surface treatments, and types of fabrication. The types of coatings and treatments applied to aluminum extrusions include, but are not limited to, extrusions that are mill finished (i.e., without any coating or further finishing), brushed, buffed, polished, anodized (including brightdip), liquid painted, electroplated, chromate converted, powder coated, sublimated, wrapped, and/or bead blasted. Subject aluminum extrusions may also be fabricated, i.e., prepared for assembly, or thermally improved. Such operations would include, but are not limited to, extrusions that are cut-to-length, machined, drilled, punched, notched, bent, stretched, stretch-formed, hydroformed, knurled, swedged, mitered, chamfered, threaded, and spun. Performing such operations in third countries does not otherwise remove the merchandise from the scope of the investigations.

The types of products that meet the definition of subject merchandise include but are not limited to, vehicle roof rails and sun/moon roof framing, solar panel racking rails and framing, tradeshow display fixtures and framing, parts for tents or clear span structures, fence posts, drapery rails or rods, electrical conduits, door thresholds, flooring trim, electric vehicle battery trays, heat sinks, signage or advertising poles, picture frames, telescoping poles, or cleaning system components.

Aluminum extrusions may be heat sinks, which are fabricated aluminum extrusions that dissipate heat away from a heat source and may serve other functions, such as structural functions. Heat sinks come in a variety of sizes and shapes, including but not limited to a flat electronic heat sink, which is a solid aluminum extrusion with at least one flat side used to mount electronic or mechanical devices; a heat sink that is a housing for electronic controls or motors; lighting heat sinks, which dissipate heat away from LED devices; and process and exchange heat sinks, which are tube extrusions with fins or plates used to hold radiator tubing. Heat sinks are included in the scope, regardless of whether the design and production of the heat sinks are organized around meeting specified thermal performance requirements and regardless of whether they have been tested to comply with such requirements. For purposes of these investigations on aluminum extrusions from the People's Republic of China, only heat sinks designed and produced around meeting specified thermal performance requirements and tested to comply with such requirements are included in the scope.

Merchandise that is comprised solely of aluminum extrusions or aluminum extrusions and fasteners, whether assembled at the time of importation or unassembled, is covered by the scope in its entirety.

The scope also covers aluminum extrusions that are imported with non-extruded aluminum components beyond fasteners, whether assembled at the time of importation or unassembled, that are a part or subassembly of a larger product or system. Only the aluminum extrusion portion of the merchandise described in this paragraph, whether assembled or unassembled, is subject to duties. Examples of merchandise that is a part or subassembly of a larger product or system include, but are not limited to, window parts or subassemblies; door unit parts or subassemblies; shower and bath system parts or subassemblies; solar panel mounting systems; fenestration system parts or subassemblies, such as curtain wall and window wall units and parts or subassemblies of storefronts; furniture parts or subassemblies; appliance parts or subassemblies, such as fin evaporator coils and systems for refrigerators; railing or deck system parts or subassemblies; fence system parts or subassemblies; motor vehicle parts or subassemblies, such as bumpers for motor vehicles; trailer parts or subassemblies, such as side walls, flooring, and roofings; electric vehicle charging station parts or subassemblies; or signage or advertising system parts or subassemblies. Parts or subassemblies described by this paragraph that are subject to duties in their entirety pursuant to existing antidumping and countervailing duty orders are excluded from the scope of these investigations, so long as they remain subject to the scope of such orders. Any part or subassembly that otherwise meets the requirements of this scope and that is not covered by other antidumping and/or countervailing duty orders remains subject to the scope of these investigations.

The scope excludes assembled merchandise containing non-extruded aluminum components beyond fasteners that is not a part or subassembly of a larger product or system and that is used as imported, without undergoing after importation any processing, fabrication, finishing, or assembly or the addition of parts or material, regardless of whether the additional parts or material are interchangeable.

The scope also excludes merchandise containing non-extruded aluminum components beyond fasteners that is not a part or subassembly of a larger product or system that enters unassembled as a packaged combination of parts to be assembled as is for its intended use, without undergoing after importation any processing, fabrication, or finishing or the addition of parts or material, regardless of whether the additional parts or material are interchangeable. To be excluded under this paragraph, the merchandise must be sold and enter as a discrete kit on one Customs entry form.

Examples of such excluded assembled and unassembled merchandise include windows with glass, door units with door panel and glass, motor vehicles, trailers, furniture, and appliances.

The scope also includes aluminum extrusions that have been further processed in a third country, including, but not limited to, the finishing and fabrication processes described above, assembly, whether with other aluminum extrusion components or with non-aluminum extrusion components, or any other processing that would not otherwise remove the merchandise from the scope if performed in the country of manufacture of the in-scope product. Third-country processing; finishing; and/or fabrication, including those processes described in the scope, does not alter the country of origin of the subject aluminum extrusions.

The following aluminum extrusion products are excluded: aluminum extrusions made from an aluminum alloy with an Aluminum Association series designations commencing with the number 2 (or proprietary equivalents or other certifying body equivalents) and containing in excess of 1.5 percent copper by weight; aluminum extrusions made from an aluminum alloy with an Aluminum Association series designation commencing with the number 5 (or proprietary equivalents or other certifying body equivalents) and containing in excess of 2.0 percent magnesium by weight; and aluminum extrusions made from an aluminum alloy with an Aluminum Association series designation commencing with the number 7 (or proprietary equivalents or other certifying body equivalents) and containing in excess of 2.0 percent zinc by weight.

The scope also excludes aluminum alloy sheet or plates produced by means other than the extrusion process, such as aluminum products produced by a method of continuous casting or rolling. Cast aluminum products are also excluded. The scope also excludes unwrought aluminum in any form.

The scope also excludes collapsible tubular containers composed of metallic elements corresponding to alloy code 1080A as designated by the Aluminum Association (not including proprietary equivalents or other certifying body equivalents) where the tubular container (excluding the nozzle) meets each of the following dimensional characteristics: (1) length of 37 millimeters (mm) or 62 mm; (2) outer diameter of 11.0 mm or 12.7 mm; and (3) wall thickness not exceeding 0.13 mm.

Also excluded from the scope of these investigations is certain rectangular wire, imported in bulk rolls or precut strips and produced from continuously cast rolled aluminum wire rod, which is subsequently extruded to dimension to form rectangular wire with or without rounded edges. The product is made from aluminum alloy grade 1070 or 1370 (not including proprietary equivalents or other certifying body equivalents), with no recycled metal content allowed. The dimensions of the wire are 2.95 mm to 6.05 mm in width, and 0.65 mm to 1.25 mm in thickness. Imports of rectangular wire are provided for under Harmonized Tariff Schedule of the United States (HTSUS) subheadings 7605.19.0000, 7604.10.5000, or 7616.99.5190.

Also excluded from the scope of these antidumping and countervailing duty investigations on aluminum extrusions from the People's Republic of China are all products covered by the scope of the antidumping and countervailing duty orders on Aluminum Extrusions from the People's Republic of China. See Aluminum Extrusions from the People's Republic of China: Antidumping Duty Order, 76 FR 30,650 (May 26, 2011); and Aluminum Extrusions from the People's Republic of China: Countervailing Duty Order, 76 FR 30,653 (May 26, 2011) (collectively, Aluminum Extrusions from the People's Republic of China). Solely for these investigations on aluminum extrusions from the People's Republic of China, the following is an exhaustive list of products that meet the definition of subject merchandise. Merchandise that is not included in the following list that meets the definition of subject merchandise in the 2011 antidumping and countervailing duty orders on Aluminum Extrusions from the People's Republic of China remains subject to the earlier orders. No other section of this scope language that provides examples of subject merchandise is exhaustive. The following products are included in the scope of these investigations on aluminum extrusions from the People's Republic of China, whether assembled or unassembled: heat sinks as described above; cleaning system components like mops and poles; banner stands/back walls; fabric wall systems; drapery rails; side mount valve controls; water heater anodes; solar panel mounting systems; 5050 alloy rails for showers and carpets; auto heating and cooling system components; assembled motor cases with stators; louver assemblies; event décor; window wall units and parts; trade booths; micro channel heat exchangers; telescoping poles, pole handles, and pole attachments; flagpoles; wind sign frames; foreline hose assembly; electronics enclosures; parts and subassemblies for storefronts, including portal sets; light poles; air duct registers; outdoor sporting goods parts and subassemblies; glass refrigerator shelves; aluminum ramps; handicap ramp system parts and subassemblies; frames and parts for tents and clear span structures; parts and subassemblies for screen enclosures, patios, and sunrooms; parts and subassemblies for walkways and walkway covers; aluminum extrusions for LED lights; parts and subassemblies for screen, storm, and patio doors; pontoon boat parts and subassemblies, including rub rails, flooring, decking, transom structures, canopy systems, seating; boat hulls, framing, ladders, and transom structures; parts and subassemblies for docks, piers, boat lifts and mounting; recreational and boat trailer parts and subassemblies, including subframes, crossmembers, and gates; solar tracker assemblies with gears; garage door framing systems; door threshold and sill assemblies; highway and bridge signs; bridge, street, and highway rails; scaffolding, including planks and struts; railing and support systems; parts and subassemblies for exercise equipment; weatherstripping; door bottom and sweeps; door seals; floor transitions and trims; parts and subassemblies for modular walls and office furniture; truck trailer parts and subassemblies; boat cover poles, outrigger poles, and rod holders; bleachers and benches; parts and subassemblies for elevators, lifts, and dumbwaiters; parts and subassemblies for mirror and framing systems; window treatments; parts and subassemblies for air foils and fans; bus and RV window frames; sliding door rails; dock ladders; parts and subassemblies for RV frames and trailers; awning, canopy, and sunshade structures and their parts and subassemblies; marine motor mounts; linear lighting housings; and cluster mailbox systems.

Imports of the subject merchandise are primarily provided for under the following categories of the HTSUS: 7604.10.1000; 7604.10.3000; 7604.10.5000; 7604.21.0010; 7604.21.0090; 7604.29.1010; 7604.29.1090; 7604.29.3060; 7604.29.3090; 7604.29.5050; 7604.29.5090; 7608.10.0030; 7608.10.0090; 7608.20.0030; 7608.20.0090; 7609.00.0000; 7610.10.0010; 7610.10.0020; 7610.10.0030; 7610.90.0040; and 7610.90.0080.

Imports of the subject merchandise, including subject merchandise entered as parts of other products, may also be classifiable under the following additional HTSUS categories, as well as other HTSUS categories: 6603.90.8100; 7606.12.3091; 7606.12.3096; 7615.10.2015; 7615.10.2025; 7615.10.3015; 7615.10.3025; 7615.10.5020; 7615.10.5040; 7615.10.7125; 7615.10.7130; 7615.10.7155; 7615.10.7180; 7615.10.9100; 7615.20.0000; 7616.10.9090; 7616.99.1000; 7616.99.5130; 7616.99.5140; 7616.99.5190; 8302.10.3000; 8302.10.6030; 8302.10.6060; 8302.10.6090; 8302.20.0000; 8302.30.3010; 8302.30.3060; 8302.41.3000; 8302.41.6015; 8302.41.6045; 8302.41.6050; 8302.41.6080; 8302.42.3010; 8302.42.3015; 8302.42.3065; 8302.49.6035; 8302.49.6045; 8302.49.6055; 8302.49.6085; 8302.50.0000; 8302.60.3000; 8302.60.9000; 8305.10.0050; 8306.30.0000; 8414.59.6590; 8415.90.8045; 8418.99.8005; 8418.99.8050; 8418.99.8060; 8419.50.5000; 8419.90.1000; 8422.90.0640; 8424.90.9080; 8473.30.2000; 8473.30.5100; 8479.89.9599; 8479.90.8500; 8479.90.9596; 8481.90.9060; 8481.90.9085; 8486.90.0000; 8487.90.0080; 8503.00.9520; 8508.70.0000; 8513.90.2000; 8515.90.2000; 8516.90.5000; 8516.90.8050; 8517.71.0000; 8517.79.0000; 8529.90.7300; 8529.90.9760; 8536.90.8585; 8538.10.0000; 8541.90.0000; 8543.90.8885; 8547.90.0020; 8547.90.0030; 8708.10.3050; 8708.29.5160; 8708.80.6590; 8708.99.6890; 8807.30.0060; 9031.90.9195; 9401.99.9081; 9403.99.1040; 9403.99.9010; 9403.99.9015; 9403.99.9020; 9403.99.9040; 9403.99.9045; 9405.99.4020; 9506.11.4080; 9506.51.4000; 9506.51.6000; 9506.59.4040; 9506.70.2090; 9506.91.0010; 9506.91.0020; 9506.91.0030; 9506.99.0510; 9506.99.0520; 9506.99.0530; 9506.99.1500; 9506.99.2000; 9506.99.2580; 9506.99.2800; 9506.99.5500; 9506.99.6080; 9507.30.2000; 9507.30.4000; 9507.30.6000; 9507.30.8000; 9507.90.6000; 9547.90.0040; and 9603.90.8050.

While HTSUS subheadings are provided for convenience and customs purposes, the written description of the scope is dispositive.

[FR Doc. 2023-23962 Filed 10-30-23; 8:45 am]

BILLING CODE 3510-DS-P